DEPARTMENT OF DEFENSE

Department of the Army

Interim Change to the Military Freight Traffic Unified Rules Publication (MFTURP) No. 1

AGENCY: Department of the Army, DoD.

SUMMARY: The Military Surface Deployment and Distribution Command (SDDC) is providing notice that it is releasing an interim change to the MFTURP No. 1 on October 1, 2010. The interim change adds Item 180, Rail In-Transit Visibility (Rail ITV) Reporting, to Section C of the MFTURP No. 1.

ADDRESSES: Submit comments to Publication and Rules Manager, Strategic Business Directorate, Business Services, 1 Soldier Way, Building 1900W, ATTN: SDDC-OPM, Scott AFB, 62225. Request for additional information may be sent by e-mail to: chad.t.privett@us.army.mil or george.alie@us.army.mil.

FOR FURTHER INFORMATION CONTACT: Mr. Chad Privett, (618) 220-6901, or Mr. George Alie, (618) 220-5870.

SUPPLEMENTARY INFORMATION: Reference: Military Freight Traffic Unified Rules Publications (MFTURP) No. 1.

Background: The MFTURP No. 1 governs the purchase of surface freight transportation in the Continental United States (CONUS) by DoD using Federal Acquisition Regulation (FAR) exempt transportation service contracts.

Rail ITV data is now purchased from a contractor, along with rail ITV services. Some of the data is transmitted to the Global Tracking Network (GTN), but most of it resides in the contractor's database and is accessible only using the contractor's software. When contracts are rebid, the former contractor is tasked to transfer recent data to the new contractor. Section C, Item 180, ensures this transfer takes place.

Miscellaneous: This publication, as well as the other SDDC publications, can be accessed via the SDDC Web site at: http://www.sddc.army.mil/Public/Global%20Cargo%20Distribution/Domestic/Publications/.

Henry Brooks,
Chief, SDDC, G9, Business Execution.

[FR Doc. 2010-24589 Filed 9-29-10; 8:45 am]

BILLING CODE 3710-08-P